DEPARTMENT OF HEALTH AND HUMAN SERVICES

[Document Identifier OS-0990-0382 (60-day Notice)]

Agency Information Collection Request; 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, email your request, including your address, phone number, OMB number, and OS document identifier, to Sherette.funncoleman@hhs.gov, or call the Reports Clearance Office on (202) 690-6162. Written comments and recommendations for the proposed information collections must be directed to the OS Paperwork Clearance Officer at the above email address within 60 days.

Proposed Project: Evaluation of Pregnancy Prevention Approaches: First Follow-Up Data Collection—OMB No. 0990-0382—Office of Adolescent Health.

Abstract: The Office of Adolescent Health (OAH), Office of the Assistant Secretary for Health (OASH), U.S. Department of Health and Human Services (HHS), is requesting approval by OMB on a revised data collection. OAH is overseeing and coordinating adolescent pregnancy prevention evaluation efforts as part of the Teen Pregnancy Prevention Initiative. OAH is working collaboratively with the Office of the Assistant Secretary for Planning and Evaluation (ASPE), the Centers for Disease Control and Prevention (CDC), and the Administration for Children and Families (ACF) on adolescent pregnancy prevention evaluation activities.

OAH is overseeing the Pregnancy Prevention Approaches Evaluation (PPA). The PPA Evaluation is a random assignment evaluation which will expand available evidence on effective ways to reduce teen pregnancy. The evaluation will document and test a range of pregnancy prevention approaches in up to seven program sites. The findings from this evaluation will be of interest to the general public, to policymakers, and to organizations interested in teen pregnancy prevention.

OAH is proposing a data collection activity as part of the PPA Evaluation. The proposed activity involves the collection of follow-up data from a self-administered questionnaire which will be analyzed to determine program effects. Through a survey instrument, respondents will be asked to answer carefully selected questions about demographics and risk and protective factors related to teen pregnancy.

Respondents: The data will be collected through private, phone-administered questionnaires with study participants, i.e. adolescents assigned to a select school or community teen pregnancy prevention program or control group. Trained professional staff will administer a paper and pencil survey over the phone.

Estimated Annualized Burden Table
Site/Program | Type of respondent | Annual number of respondents | Number of responses per respondent | Average burden hours per response | Total burden hours (annual)
Follow-up Instrument (6 months) | Participating Youth and Control Group Youth | 255 | 1 | 30/60 | 128
Follow-up Instrument (18 months) | Participating Youth and Control Group Youth | 246 | 1 | 30/60 | 123
Total |  |  |  |  | 251

Keith A. Tucker,
Office of the Secretary, Paperwork Reduction Act Clearance Officer.

[FR Doc. 2011-31199 Filed 12-5-11; 8:45 am]

BILLING CODE 4150-30-P